OVERSEAS PRIVATE INVESTMENT CORPORATION

Sunshine Act Meeting Notice

TIME AND DATE: Thursday, September 14, 2017, 2 p.m. (Open Portion) 2:15 p.m. (Closed Portion).

PLACE: Offices of the Corporation, Twelfth Floor Board Room, 1100 New York Avenue NW., Washington, DC.

STATUS: Meeting Open to the Public from 2 p.m. to 2:15 p.m., Closed portion will commence at 2:15 p.m. (approx.).

MATTERS TO BE CONSIDERED:

1. President's Report.

2. Minutes of the Open Session of the June 15, 2017, Board of Directors Meeting.

FURTHER MATTERS TO BE CONSIDERED (Closed to the Public 2:15 p.m.):

1. Proposed FY 2019 Budget.

2. Insurance Project—Ukraine.

3. Finance Project—Costa Rica.

4. Minutes of the Closed Session of the June 15, 2017, Board of Directors Meeting.

5. Reports and Budget.

6. Pending Projects.

CONTACT PERSON FOR MORE INFORMATION: Information on the meeting may be obtained from Catherine F. I. Andrade at (202) 336-8768, or via email at Catherine.Andrade@opic.gov.

Dated: August 22, 2017.
Catherine Andrade,
Corporate Secretary, Overseas Private Investment Corporation.

[FR Doc. 2017-18143 Filed 8-23-17; 11:15 am]

BILLING CODE 3210-01-P